DEPARTMENT OF THE INTERIOR

National Park Service

[NPS-WASO-NAGPRA-23404; PPWOCRADN0-PCU00RP14.R50000]

Notice of Intent to Repatriate Cultural Items: State Historical Society of North Dakota, Bismarck, ND

AGENCY: National Park Service, Interior.

ACTION: Notice.

SUMMARY: The State Historical Society of North Dakota, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the State Historical Society of North Dakota. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the State Historical Society of North Dakota at the address in this notice by July 14, 2017.

ADDRESSES: Melissa Thompson, State Historical Society of North Dakota, 612 East Boulevard Avenue, Bismarck, ND 58505, telephone (701) 328-2691, email methompson@nd.gov.

SUPPLEMENTARY INFORMATION: Notice is here given in accordance with the Native American Graves Protection and Repatriation Act (NAGPRA), 25 U.S.C. 3005, of the intent to repatriate cultural items under the control of the State Historical Society of North Dakota, Bismarck, ND, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On an unknown date, an unknown number of cultural items were removed from an unknown site in an unknown location. In August of 2016, a wooden anthropomorphic figurine was found in the Museum Division storage space. The cultural item was found in a box dating to the 1950s that was used for storage of items in the possession of the State Historical Society of North Dakota (SHSND), but never formally accessioned or cataloged into the museum collection. Museum opinion is that the figurine was placed in the storage box in the 1950s, but no other provenance information is available. The object of cultural patrimony is a Can Otina. It is an object that does not belong to an individual, though individuals care for it. It is an object that would be used for protection of the camp, portending future events, helping with planting or finding food or medicines, or serving the needs of the community in other ways. It is a helper to the people and an essential part of tribal identity and the maintenance of tribal traditions.

The Can Otina was identified by a Dakota spiritual leader as belonging to the Sisitunwan (Dwellers by the Fish Camp-Ground) fire of the Oceti Sakowin (Seven Council Fires) that make up what is often referred to as the “Sioux Nation.” In addition to the Sisitunwan, the Oceti Sakowin is composed of the Wahpetunwan, Bdewakantunwan, Wahpekute, Ihanktunwan, Ihanktunwanna, and Titunwan peoples, all of whom are Dakota, Lakota, or Nakota. The Sisitunwan are Dakota people. Their first reservation land was negotiated under the Treaty of Traverse des Sioux in 1851, and then initially reduced under the Treaty of 1858, relegating this council fire to a strip of land bordering the Minnesota River in southern Minnesota. These treaties were unilaterally abrogated by the United States Government after the U.S.-Dakota War of 1862 and Dakota people were force-marched and ethnically-cleansed from their Minnesota homeland in 1863. By the late 1880s, Sisitunwan and Wahpetunwan Dakota people began returning to this portion of Minnesota and reestablishing a community near what was formerly called the Upper Sioux Agency. A new, vastly smaller reservation was established by the federal government in 1938, all of which is located on the original reservation treaty land. Upper Sioux is one of the few Oceti Sakowin reservations where a distinct segment of the population specifically identifies as Sisitunwan (others include Spirit Lake, Fort Peck, and the Sisseton-Wahpeton Sioux Tribe), though people with Sisitunwan blood continue to live on most, if not all, Oceti Sakowin reservation communities. The distinctive Sisitunwan identity still pervasive at Upper Sioux makes this community a strong choice for repatriation of Sisitunwan NAGPRA collections.

Determinations Made by the State Historical Society of North Dakota

Officials of the State Historical Society of North Dakota have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Upper Sioux Community, Minnesota.

Additional Requestors and Disposition

Lineal descendants or representatives of any Indian Tribe or Native Hawaiian organization not identified in this notice that wish to claim these cultural items should submit a written request with information in support of the claim to Melissa Thompson, State Historical Society of North Dakota, 612 East Boulevard Avenue, Bismarck, ND 58505, telephone (701) 328-2691, email methompson@nd.gov, by July 14, 2017. After that date, if no additional claimants have come forward, transfer of control of the object of cultural patrimony to the Upper Sioux Community, Minnesota, may proceed.

The State Historical Society of North Dakota is responsible for notifying the Upper Sioux Community, Minnesota, that this notice has been published.

Dated: May 15, 2017.
Melanie O'Brien,
Manager, National NAGPRA Program.

[FR Doc. 2017-12297 Filed 6-13-17; 8:45 am]

BILLING CODE 4312-52-P